ENVIRONMENTAL PROTECTION AGENCY

40 CFR Part 52

[EPA-R03-OAR-2010-0552; FRL-9221-9]

Approval and Promulgation of Air Quality Implementation Plans; Pennsylvania; 2002 Base Year Emission Inventory, Reasonable Further Progress Plan, Contingency Measures, Reasonably Available Control Measures, and Transportation Conformity Budgets for the Pennsylvania Portion of the Philadelphia-Wilmington-Atlantic City 1997 8-Hour Moderate Ozone Nonattainment Area

AGENCY: Environmental Protection Agency (EPA).

ACTION: Proposed rule.

SUMMARY: EPA is proposing to approve revisions to the Pennsylvania State Implementation Plan (SIP) to meet the 2002 base year emissions inventory, the reasonable further progress (RFP) plan, RFP contingency measure, and reasonably available control measure (RACM) requirements of the Clean Air Act (CAA) for the Philadelphia-Wilmington-Atlantic City, PA-NJ-MD-DE moderate 1997 8-hour ozone nonattainment area. EPA is also proposing to approve the 2008 transportation conformity motor vehicle emissions budgets (MVEBs) associated with the reasonable further progress portion of these revisions. EPA is proposing to approve the SIP revisions because they satisfy the emission inventory, RFP, RACM, RFP contingency measures, and transportation conformity requirements for areas classified as moderate nonattainment for the 1997 8-hour ozone national ambient air quality standard (NAAQS) and demonstrates further progress in reducing ozone precursors. EPA is proposing to approve the SIP revision, pursuant to section 110 and part D of the CAA and EPA's regulations.

DATES: Written comments must be received on or before December 6, 2010.

ADDRESSES: Submit your comments, identified by Docket ID Number EPA-R03-OAR-2010-0552 by one of the following methods:

A. http://www.regulations.gov. Follow the on-line instructions for submitting comments.

B. E-mail: pino.maria@epa.gov.

C. Mail: EPA-R03-OAR-2010-0552, Maria Pino, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0552. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Brian K. Rehn, (215) 814-2176, or by e-mail at rehn.brian@epa.gov.

SUPPLEMENTARY INFORMATION: Throughout this document, whenever “we,” “us,” or “our” is used, we mean EPA.

The following is provided to aid in locating information in this document.

I. What action is EPA taking?

II. What is the background of this action?

III. What is EPA's evaluation of the revision?

IV. Statutory and Executive Order Reviews

I. What action is EPA taking?

EPA is proposing to approve a revision, and two subsequent clarification SIP revisions, to the Pennsylvania SIP. This SIP revision was originally submitted by the Pennsylvania Department of Environmental Protection (PA DEP) on August 29, 2007, and was formally amended by Pennsylvania on December 10, 2009 and again on April 12, 2010. The August 2007 SIP contains an ozone attainment demonstration for the Pennsylvania portion of the Philadelphia-Wilmington-Atlantic City nonattainment area (NAA); the related 2009 projected emissions inventory for the attainment demonstration; a base year emissions inventory for the year 2002; and a 15 percent reasonable further progress plan and associated 2008 projected emission inventory; contingency measures, which serve to achieve additional reductions in the event reasonable further progress is not achieved by 2008; an analysis of RACM; and 2008 MVEB associated with reasonable further progress. EPA proposed separate rulemaking action on the ozone demonstration portion of the August 2007 SIP revision in a notice published in the May 8, 2009 Federal Register (88 FR 21604).

EPA is proposing to approve portions of that August 2007 SIP revision (as amended in December 2009 and April 2010). The SIP elements upon which EPA is herein proposing to approve include: The 2002 base year emissions inventory, the 15 percent RFP plan and associated projected 2008 emission inventories, the contingency measures for failure to meet 2008 RFP, the RACM analysis, and the RFP 2008 MVEBs. The RFP plan demonstrates that emissions will be reduced 15 percent for the period of 2002 through 2008. The 2008 MVEB for volatile organic compound (VOC) is 61.09 tons per day (tpd) and the 2008 MVEB for nitrogen oxides (NOX) is 108.78 tpd. EPA is proposing to approve the SIP revision because it satisfies RFP, contingency measure, RACM, RFP transportation conformity, and emissions inventory requirements for areas classified as moderate nonattainment for the 1997 8-hour ozone NAAQS and demonstrates further progress in reducing ozone precursors. EPA is proposing to approve the SIP revision pursuant to section 110 and part D of the CAA and EPA's regulations.

II. What is the background for this action?

In 1997, EPA revised the health-based NAAQS for ozone, setting it at 0.08 parts per million (ppm) averaged over an 8-hour time frame. EPA set the 8-hour ozone standard based on scientific evidence demonstrating that ozone causes adverse health effects at lower ozone concentrations and over longer periods of time, than was understood when the pre-existing 1-hour ozone standard was set. EPA determined that the 8-hour standard would be more protective of human health, especially children and adults who are active outdoors, and individuals with a pre-existing respiratory disease, such as asthma.

On April 30, 2004 (69 FR 23951), EPA finalized its attainment/nonattainment designations for areas across the country with respect to the 8-hour ozone standard. These actions became effective on June 15, 2004. Among those nonattainment areas is the Philadelphia-Wilmington-Atlantic City, PA-DE-NJ-MD moderate NAA. This nonattainment area includes Bucks, Chester, Delaware, Montgomery, and Philadelphia Counties in Pennsylvania, as well as counties in New Jersey and Delaware. EPA has taken separate action on separate plans submitted by neighboring states on portions of this nonattainment area that lie in those neighboring states.

These designations triggered the CAA's section 110(a)(1) requirement that states must submit attainment demonstrations for their nonattainment areas to EPA by no later than three years after the promulgation of a NAAQS. Accordingly, EPA's Phase 1 8-hour ozone implementation rule (Phase 1 rule), published on April 30, 2004 (69 FR 23951), specifies that states must submit attainment demonstrations for their nonattainment areas to the EPA by no later than three years from the effective date of designation, that is, by June 15, 2007.

Pursuant to the Phase 1 rule, an area was classified under subpart 2 of the CAA based on its 8-hour design value if that area had a 1-hour design value at or above 0.121 ppm (the lowest 1-hour design value in Table 1 of subpart 2). Based on this criterion, the Philadelphia-Wilmington-Atlantic City ozone NAA was classified under subpart 2 as a moderate nonattainment area.

On November 29, 2005 (70 FR 71612), as revised on June 8, 2007 (72 FR 31727), EPA published the final Phase 2 Rule for implementation of the 8-hour standard (Phase 2 rule). The Phase 2 rule addressed the RFP control and planning obligations as they apply to areas designated nonattainment for the 1997 8-hour ozone NAAQS.

Among other things, the Phase 1 and 2 rules outline the SIP requirements and deadlines for various requirements in areas designated as moderate nonattainment. The rules further require that modeling and attainment demonstrations, RFP plans, RACM, projection year emission inventories, motor vehicle emissions budgets, and contingency measures were all due by June 15, 2007 (40 CFR 51.908(a), (c)).

Section 182(b)(1) of the CAA and EPA's 1997 8-hour ozone implementation rule (40 CFR 51.910) require each 8-hour ozone nonattainment area designated moderate and above to submit an emissions inventory and RFP plan, for review and approval into its SIP, that describes how the area will achieve actual emissions reductions of VOC and NOX from a baseline emissions inventory.

III. What is EPA's evaluation of the revision?

EPA's analysis and findings are discussed in this proposed rulemaking and a more detailed discussion is contained in the Technical Support Document (TSD) for this Proposal, which is available on line at http://www.regulations.gov, Docket number EPA-R03-OAR-2010-0552.

On August 29, 2007, Pennsylvania submitted a comprehensive plan for the Pennsylvania portion of the Philadelphia-Wilmington-Atlantic City nonattainment area to address the CAA's 8-hour ozone attainment requirements. This SIP submittal included an attainment demonstration plan, a plan demonstrating 15 percent RFP for the period from 2002-2008, a RACM analysis, contingency measures for RFP and attainment, on-road VOC and NOX MVEBs, and the 2002 base year emissions inventory. On December 10, 2009, Pennsylvania submitted a revision to amend the August 2007 SIP to make minor corrections to the 2002 stationary point source and area source emissions inventories, and to reflect those changes in its 2002-2008 RFP demonstration. On April 12, 2010, Pennsylvania submitted another SIP revision to amend the August 2007 SIP revision to revise its point source emissions inventory to substitute a revised appendix entitled, “Appendix B-2: Stationary Point Source Emissions Annual Emissions.”

These SIP revisions were subject to notice and comment by the public, and the Commonwealth of Pennsylvania addressed the comments received on the proposed SIP revisions. All sections of these SIP submittals are discussed in this rulemaking. However, EPA earlier proposed separate rulemaking upon the attainment demonstration plan portion of the August 29, 2007 SIP revision plan, in a May 8, 2009 Federal Register notice, and the attainment demonstration portion of the August 2007 SIP revision is therefore not part of this action. The attainment demonstration plan and related attainment contingency measures, 2009 or later projected emission inventory, and 2009 MVEB sections of Pennsylvania's August 2007 SIP submittal will be discussed in a separate rulemaking.

A. Base Year Emissions Inventory

An emissions inventory is a comprehensive, accurate, current inventory of actual emissions from all sources and is required by section 172(c)(3) of the CAA. For ozone nonattainment areas, the emissions inventory needs to contain VOC and NOX emissions because these pollutants are precursors to ozone formation. EPA recommended 2002 as the base year emissions inventory, and is therefore the starting point for calculating RFP. Pennsylvania submitted its 2002 base year emissions inventory on August 29, 2007, and later submitted formal SIP revisions to amend its stationary point source and area source emissions inventories on December 10, 2009 and April 12, 2010. A summary of the 2002 base year VOC and NOX emissions inventories is for the Pennsylvania portion of the Philadelphia-Wilmington-Atlantic City nonattainment area is included in Table 1, below.

Table 1—Pennsylvania Portion of the Philadelphia-Wilmington-Atlantic City Nonattainment Area 2002 Base Year VOC & NOX Emissions in Tons per Day
[tpd]
Emission source category | VOC | NOX
Point | 22.21 | 59.63
Stationary Area | 149.84 | 14.64
Non-Road Mobile | 79.06 | 70.95
Highway Mobile | 98.76 | 184.66
Total | 349.87 | 329.88

B. Adjusted Base Year Inventory and 2008 RFP Target Levels

The process for determining the emissions baseline from which the RFP reductions are calculated is described in section 182(b)(1) of the CAA and 40 CFR 51.910. This baseline value is the 2002 adjusted base year inventory. Sections 182(b)(1)(B) and (D) require the exclusion from the base year inventory of emissions benefits resulting from the Federal Motor Vehicle Control Program (FMVCP) regulations promulgated by January 1, 1990, and the Reid Vapor Pressure (RVP) regulations promulgated June 11, 1990 (55 FR 23666). The FMVCP and RVP emissions reductions are determined by the State using EPA's highway mobile source emissions modeling software, MOBILE6. The FMVCP and RVP emission reductions are then removed from the base year inventory by the State, resulting in an adjusted base year inventory. The emission reductions needed to satisfy the RFP requirement are then calculated from the adjusted base year inventory. These reductions are then subtracted from the adjusted base year inventory to establish the emissions target for the RFP milestone year (2008).

For moderate areas like the Philadelphia nonattainment area, the CAA specifies a 15 percent reduction in ozone precursor emissions over an initial six-year period. In the Phase 2 Rule, EPA interpreted this requirement for areas that were also designated nonattainment and classified as moderate or higher for the 1-hour ozone standard. In the Phase 2 Rule, EPA provided that an area classified as moderate or higher that has the same boundaries as an area, or is entirely composed of several areas or portions of areas, for which EPA fully approved a 15 percent plan for the 1-hour NAAQS, is considered to have met the requirements of section 182(b)(1) of the CAA for the 8-hour NAAQS. In this situation, a moderate nonattainment area is subject to RFP under section 172(c)(2) of the CAA and shall submit, no later than 3 years after designation for the 8-hour NAAQS, a SIP revision that meets the requirements of 40 CFR 51.910(b)(2). The RFP SIP revision must provide for a 15 percent emission reduction (either NOX and/or VOC) accounting for any growth that occurs during the six-year period following the baseline emissions inventory year, that is, 2002-2008.

Pennsylvania's portion of the Philadelphia ozone nonattainment area under the 1-hour ozone standard had the same boundary as the Commonwealth's portion of that nonattainment area under the 1997 8-hour ozone standard. The Philadelphia nonattainment area under the 1-hour ozone standard was classified as severe. EPA approved Pennsylvania's fifteen percent RFP plan for the Commonwealth's portion of the Philadelphia-Wilmington-Trenton severe ozone nonattainment area on August 24, 2001 (66 FR 44547). Therefore, according to the Phase 2 Rule, the RFP plan for the Philadelphia nonattainment area may use either NOX or VOC emissions reductions (or both) to achieve the 15 percent emission reduction requirement.

According to section 182(b)(1)(D) of the CAA, emission reductions that resulted from the FMVCP and RVP rules promulgated prior to 1990 are not creditable for achieving RFP emission reductions. Therefore, the 2002 base year inventory is adjusted by subtracting the VOC and NOX emission reductions that are expected to occur between 2002 and the future milestone years due to the FMVCP and RVP rules.

Pennsylvania sets out its calculations for the adjusted base year inventory and 2008 RFP target levels in Section IV.D of the August 2007 Philadelphia 8-hour ozone plan, as amended by Pennsylvania on December 10, 2009.

Step 1. Calculate the 2002 anthropogenic base year inventory for the Pennsylvania portion of the Philadelphia-Wilmington-Atlantic City nonattainment area. This is found in Table 4-3 of Pennsylvania's 8-hour ozone plan for the Philadelphia nonattainment area, and shown in Table 2, below.

Table 2—Pennsylvania Portion of the Philadelphia-Wilmington-Atlantic City Nonattainment Area 2002 Anthropogenic Base Year Inventory (Ozone Season tpd)
Source category | VOC | NOX
Point | 22.21 | 59.63
Area | 149.84 | 14.64
Non-Road Mobile | 79.06 | 70.95
Highway Mobile | 98.76 | 184.66
Total (excluding biogenics) | 349.87 | 329.88

Step 2. Pennsylvania calculated the non-creditable emission reductions between 2002 and 2008 by modeling its 2002 and 2008 motor vehicle emissions with all post-1990 CAA measures switched off, and then calculating the difference. See, Tables 4-4 and 4-5 of Pennsylvania's Philadelphia nonattainment area RFP plan (as amended in December 2009), and Table 3, below.

Table 3—Pennsylvania Portion of the Philadelphia-Wilmington-Atlantic City Nonattainment Area Non-Creditable Emission Reductions (Ozone Season tpd)
Source category | VOC | NOX
(i) 2002 On-Road | 421.44 | 370.02
(ii) 2008 On-Road | 408.72 | 354.44
Non-creditable Reductions (i)-(ii) | 12.72 | 15.58

Step 3. Pennsylvania's calculations of its portion of the Philadelphia nonattainment area 2002 VOC and NOX inventories adjusted relative to 2008 and VOC and NOX target levels for 2008 are found in Table 4-6 through 4-8 of the Philadelphia nonattainment area RFP plan (as amended in December 2009) and are summarized in Table 4, below.

Table 4—Pennsylvania Portion of the Philadelphia-Wilmington-Atlantic City Nonattainment Area 2008 RFP Target Level Calculations (Ozone Season tpd)
Description | Formula | VOC | NOX
A 2002 Rate of Progress Base Year Inventory |  | 349.87 | 329.88
B FMVCP/RVP Reductions Between 2002 and 2008 |  | 12.72 | 15.58
C 2002 Adjusted Base Year Inventory Relative to 2008 | A-B | 337.15 | 314.30
D RFP Ratio |  | 0.075 | 0.075
E Emissions Reductions Required Between 2002 and 2008 | C * D | 25.29 | 23.57
F Target Level for 2008 | C-E | 311.86 | 290.73

C. Projected Inventories and Determination of RFP

Pennsylvania describes its methods used for developing its 2008 projected VOC and NOX inventories in it a document in its August 29, 2007 SIP revision. On December 10, 2009, Pennsylvania submitted two SIP revisions to amend the August 2007 SIP revision. The first made minor corrections to the stationary, area, and nonroad emissions categories of the 2002 base year emissions inventory originally set forth in the August 2007 SIP. The second of the two December 10, 2009 SIP revisions amended the RFP demonstration presented in the August 2007 SIP revision to make use of the amended 2002 base year emissions inventory. EPA reviewed the procedures Pennsylvania used to develop its projected inventories and found them to be reasonable.

Projected controlled 2008 emissions for Pennsylvania's portion of the Philadelphia nonattainment area are summarized in Table 4-7 of Pennsylvania's December 2009 revised RFP plan for the Philadelphia nonattainment area. The data from Table 4-7 is presented below, in Table 5, below.

Table 5—Pennsylvania Portion of the Philadelphia Nonattainment Area 2008 Projected Controlled VOC and NOX Emissions (tpd)
Emission source category | VOC emissions (tpd) | NOX emissions (tpd)
Point | 21.56 | 57.13
Area | 143.23 | 15.50
Non-road Mobile | 62.84 | 62.67
Highway Mobile | 61.09 | 108.78
Total | 288.72 | 244.08

To determine if 2008 RFP is met in the Pennsylvania portion of the Philadelphia-Wilmington-Atlantic City nonattainment area, the total projected controlled emissions must be compared to the target levels calculated in the previous section of this document. As shown below in Table 6, the total VOC and NOX emission projections meet the 2008 emission targets. Therefore, the 2008 RFP in Pennsylvania's portion of the Philadelphia-Wilmington-Atlantic City nonattainment area is demonstrated.

Table 6—Determination of Whether RFP Is Met in 2008 in the Pennsylvania Portion of the Philadelphia-Wilmington-Atlantic City Nonattainment Area
Description | VOC emissions (tpd) | NOX emissions (tpd)
A Target Level for 2008 | 311.86 | 290.73
B 2008 Projected Controlled Emissions (including non-creditable FMVCP) | 288.72 | 244.08
C 2008 Projected Controlled Emissions (excluding reductions from non-creditable FMVCP) | 301.44 | 259.66
Is RFP met? [i.e., 2008 Projected Emissions (C) < 2008 Target Level (A)] | Yes | Yes

D. Control Measures and Emission Reductions for RFP

The control measures upon which Pennsylvania relies upon for credit to demonstrate RFP requirement for the Commonwealth's portion of the Philadelphia-Wilmington-Atlantic City nonattainment area are described in Section V of the Commonwealth's August 2007 8-hour ozone attainment plan and emissions inventory SIP for the Philadelphia nonattainment area. To demonstrate RFP for the Philadelphia nonattainment area, Pennsylvania used a combination of (1) stationary point, (2) stationary area, (3) highway mobile, and (4) non-road mobile source control measures.

The stationary point source measures Pennsylvania relied upon to demonstrate RFP by 2008 include: Interstate transport pollution reductions from the NOX SIP Call Rule; NOX emission limits on NOX sources, including small sources of NOX, cement kilns, and large stationary combustion engines; and Federal standards for hazardous air pollutants. Pennsylvania estimates that these measures provided reductions of 0.65 tpd of VOC and 2.50 tpd of NOX by 2008 for the Commonwealth's portion of the nonattainment area.

The stationary area source measures upon which Pennsylvania relied to demonstrate 2008 RFP in the Commonwealth's portion of the Philadelphia nonattainment area include: Portable fuel container regulation to address permeation and evaporation of VOCs; a consumer products formulation rule; and a rule governing the formulation of architectural and industrial maintenance coatings. In total, Pennsylvania estimates these measures reduced 6.61 tpd of VOCs, but increased NOX by 0.86 tpd.

Highway mobile (or on-road mobile) measures upon which Pennsylvania relied to demonstrate 2008 RFP in the Commonwealth's portion of the Philadelphia nonattainment area include: The Federal Motor Vehicle Control Program; the Pennsylvania Clean Vehicle Program for passenger cars and light-duty trucks; the Federal Heavy Duty Diesel Control Program; Pennsylvania's adoption of California's Heavy-Duty Emissions Control Program; the Vehicle Inspection and Maintenance Program; the Federal Low Sulfur Gasoline Rule; the Stage II Gasoline Vapor Recovery rule; and the Federal reformulated gasoline rule. In total, Pennsylvania estimates that these highway mobile source measures reduced VOCs by 37.67 tpd and NOX by 75.88 tpd. However, 12.72 tpd of VOCs and 15.58 tpd of NOX from these measures can not be credited towards demonstrating RFP, and therefore may not be credited against the RFP target. This is because the CAA specifies that measures that were already required to be in place prior to the RFP demonstration period under the previous pre-1990 CAA (e.g., FMVCP and Federal fuel volatility standards) can not be used to demonstrate RFP goals under the present statute.

The non-road mobile source measures upon which Pennsylvania relied upon to demonstrate 2008 RFP in the Philadelphia nonattainment area include: non-road small gasoline engines; non-road diesel engines (Tier I and Tier II); marine engine standards for spark-ignition engines; emission standards for large spark-ignition engines; the use of Federal reformulated gasoline in non-road motor vehicles and equipment; and Tier 2 railroad engine standards. Pennsylvania calculated the non-road mobile 2008 emission reductions to be 16.22 tpd VOC and 8.28 tpd NOX.

In the TSD prepared by EPA in support of this action, EPA evaluates each of these measures and the Commonwealth's estimate of 2008 emissions for each measure. For details, please refer to EPA's TSD for this action.

Table 7 summarizes the emission reductions that Pennsylvania claimed in its RFP Plan for the Philadelphia nonattainment area, as amended in December 2009. The total 2008 projected emission reductions are sufficient to demonstrate reasonable further progress, including the use of substituted NOX reductions for VOC reductions to meet the 15% target reduction. Therefore, the emission reductions Pennsylvania claims for its portion of the Philadelphia-Wilmington-Atlantic City nonattainment area RFP plan are approvable.

Table 7—Control Measures and 2008 Emission Reductions in the Pennsylvania Portion of the Philadelphia-Wilmington-Atlantic City Nonattainment Area 8-Hour RFP Plan
Control strategies | VOC (tpd) | NOX (tpd)
Stationary Point Sources | 0.65 | 2.50
NOX SIP Call
Smaller Sources of NOX
Hazardous Air Pollutant Regulations
Stationary Area Sources | 6.61 | −0.86
Portable Fuel Containers
Consumer Products
AIM Coatings
Highway Sources (includes non creditable reductions from pre-1990 FMVCP between 2002-08) | ¹ 37.67 | ² 75.88
Federal Motor Vehicle Control Programs
Pennsylvania Clean Vehicles Program
Heavy duty diesel control Programs
Inspection/Maintenance Program
Low Sulfur Gasoline
Other Motor Vehicle Programs
Non-road Sources | 16.22 | 8.28
Federal Nonroad Regulations including Fuel Standards
Total Expected Emission Reductions (2002-2008) (including non-creditable reductions) | 61.15 | 85.80
¹ 12.72 non-creditable.
² 15.58 non-creditable.

E. Contingency Measures

Section 172(c)(9) of the CAA requires a state with a moderate or above ozone nonattainment area to include sufficient additional contingency measures in its RFP plan in case the Philadelphia nonattainment area fails to meet RFP requirements. The same provision of the CAA also requires that the contingency measures must be fully adopted control measures or rules. Upon failure to meet an RFP milestone requirement, the state must be able to implement the contingency measures without any further rulemaking activities. Upon implementation of such measures, additional emission reductions of at least 3 percent of the adjusted 2002 baseline emissions must be achieved. For more information on contingency measures, see the April 16, 1992 General Preamble (57 FR 13512) and the November 29, 2005 Phase 2 8-hour ozone implementation rule (70 FR 71612).

To meet the requirements for contingency emission reductions, EPA allows for the use of early implementation of control measures as contingency measures. EPA also allows the substitution of NOX emission reductions for VOC emission reductions in the contingency plans (by any combination of NOX and VOC, as long as the 3 percent reduction is achieved and 0.3 percent of the total is attributable to VOCs).

The RFP contingency requirement may be met by including in the RFP plan a demonstration of 18 percent VOC & NOX RFP. The additional 3 percent reduction above the 15 percent requirement must be attributed to specific measures. Pennsylvania elected to use early emission reductions from the Federal Tier 2 motor vehicle program towards meeting the contingency measure requirement.

Pennsylvania discusses its Philadelphia nonattainment area contingency measures for failure to meet RFP in Section 4 of the December 2009 Correction to the RFP SIP. The results are presented in Table 8, below.

Table 8—Pennsylvania Portion of the Philadelphia-Wilmington-Atlantic City Nonattainment Area 2008 RFP Contingency Measure Target Level Calculations
Description | Formula | VOC (tpd) | NOX (tpd)
A 2002 Rate-Of Progress Base Year Inventory |  | 349.87 | 329.88
B Non-creditable FMVCP/RVP Reductions Between 2002 And 2008 |  | 12.72 | 15.58
C 2002 Adjusted Base Year Inventory Relative To 2008 | A−B | 337.15 | 314.3
D RFP Ratio (Target Percent Reduction for RFP) |  | 7.5 | 7.5
E RFP Emissions Reductions Required Between 2002 & 2008 for RFP | C * (1−(D/100)) | 25.29 | 23.57
F Contingency Percentage |  | 3.00 | 0
G Contingency Emission Reduction Requirements | C * F | 10.11 | 0
H Contingency Measure Target Level for 2008 | C−E−G | 301.76 | 314.30
I 2008 Projected Emissions (including growth and controls and non-creditable FMVCP) |  | 288.72 | 244.08
J 2008 Project Emissions Excluding Reductions from non-creditable FMVCP |  | 301.44 | 259.66

To determine if Pennsylvania meets the three percent contingency measure requirement for the Pennsylvania portion of the Philadelphia nonattainment area, the total projected controlled emissions (including growth, but excluding reductions from the non-creditable pre-1990 FMVCP) must be compared to the contingency measure target levels calculated above. Pennsylvania has not indicated whether it intends to obtain the necessary early reduction contingency measures entirely from VOCs, from NOX, or from both. Since the Commonwealth's 2008 projected VOC inventory is much closer to its contingency measure target level, we assumed that the contingency measure target is based entirely upon contingency percentage reduction of 3 percent coming from VOCs, with no NOX substitution. Table 9 shows that Pennsylvania would meet the contingency measure target if this assumption is made. Assuming the maximum amount of NOX substitution allowable under EPA relevant guidance of 2.7 percent, an entirely NOX-substituted contingency plan by Pennsylvania would also demonstrate that the contingency measure requirement is met. Therefore, Pennsylvania has sufficient early contingency measures in place to meet the contingency measure requirement for the Philadelphia nonattainment area, for purposes of demonstrating RFP.

Table 9—Evaluation of the Pennsylvania Portion of the Philadelphia-Wilmington-Atlantic City Nonattainment Area 2008 RFP Contingency Measure Requirement
Description | VOC (tpd) | NOX (tpd)
A Total 2008 Projected Controlled Emissions | 301.44 | 259.66
B Contingency Measure Target Level for 2008 (if assumed to be entirely VOC-based) | 301.76 | 314.30
Contingency measure requirement met if A < B | Yes | Yes

F. RACM Analysis

Pursuant to section 172(c)(1) of the CAA, states are required to implement all RACM as expeditiously as practicable for each nonattainment area. Specifically, section 172(c)(1) states the following: “In general—Such plan provisions shall provide for the implementation of all reasonably available control measures as expeditiously as practicable (including such reductions in emissions from existing sources in the area as may be obtained through the adoption, at a minimum, of reasonably available control technology) and shall provide for attainment of the national primary ambient air quality standards.” Furthermore, in EPA's Phase 2 Rule, EPA describes how states must include a RACM analysis with their attainment demonstration (70 FR 71659). The purpose of the RACM analysis is to determine whether or not control measures exist that are technically reasonable and that provide emission reductions that would advance the attainment date for nonattainment areas. Control measures that would advance the attainment date are considered RACM and must be included in the SIP. RACM are necessary to ensure that the attainment date is achieved “as expeditious as practicable.” RACM is defined by the EPA as any potential control measure for application to point, area, on-road and non-road emission source categories that meets the following criteria:

• The control measure is technologically feasible;

• The control measure is economically feasible;

• The control measure does not cause “substantial widespread and long-term adverse impacts;”

• The control measure is not “absurd, unenforceable, or impracticable;” and

• The control measure can advance the attainment date by at least one year.

Pennsylvania addresses the RACM requirement is Section V.B of the Philadelphia 8-hour ozone attainment demonstration SIP submitted to EPA in August 2007. In order to meet the CAA requirement for RACM, Pennsylvania must demonstrate that it has adopted all RACM necessary to move the Philadelphia nonattainment area toward attainment as expeditiously as practicable. Since this multi-state nonattainment area is classified as moderate ozone nonattainment under the 1997 8-hour ozone NAAQS, the entire area was required to demonstrate attainment by the 2009 ozone season. Therefore, Pennsylvania considered measures that would potentially advance the attainment date for its portion of this multi-state nonattainment area and that would provide for attainment by the ozone season preceding the attainment deadline.

Pennsylvania worked with the Ozone Transport Commission (OTC) member states to evaluate potential RACM measures for use in Pennsylvania. In 2006, the OTC staff and member states formed several workgroups to identify and evaluate candidate control measures. Initially, the workgroups compiled and reviewed a list of approximately 1,000 candidate control measures. These control measures were identified through published sources such as the EPA's Control Technique Guidelines, the State and Territorial Air Pollution Program Administrators/Association of Local Air Pollution Control (STAPPA/ALAPCO) “Menu of Options” documents, the AirControlNET database, emission control initiatives in member states as well as other states including California, state/regional consultations, and stakeholder input. The OTC's workgroups then narrowed their review to a preliminary list of thirty candidate control measures to be considered for more detailed analysis. These measures were selected to focus on the pollutants and source categories that are thought to be the most effective in reducing ozone air quality levels in the Northeastern and Mid-Atlantic States.

Pennsylvania considered these measures, in conjunction with regional modeling that indicated that 20 to 40 tons per day of VOC or NOX would be necessary to advance the attainment date by one year. In evaluating the measures potentially available, Pennsylvania determined that no measure or group of measures would individually or collectively achieve the necessary level of emission reductions to advance the attainment date. Further, many of these measures could not be adopted and implemented in time to serve as RACM measures to meet attainment goals. Pennsylvania believes, on the basis of their analysis, that there are no further RACM measures that are appropriate for this SIP.

Pennsylvania lists its most recently adopted measures, in conjunction with the most recently adopted federal measures in Section V.B of its August 2007 SIP revision. Pennsylvania's list of recently adopted state measures includes:

• Small Source NOX Provisions (Chapter 129, Sections 201-205).

• Portable Fuel Containers Rule (Chapter 130, Sections 101-108).

• Consumer Products Rule (Chapter 129, Section 63).

• Architectural and Industrial Maintenance Coatings Rule (Chapter 130, Sections 601-611).

• Degreasing Operations Rule (Chapter 129, Section 63).

• NOX SIP Call (Internal Combustion Engines provisions) (Chapter 145, Sections 111-113).

• NOX SIP Call (Portland Cement Kiln provisions) (Chapter 145, Sections 141-144).

• RACT for the 8-Hour Ozone NAAQS (2006 EPA SIP Revision).

• Enhanced Vehicle I/M Program (67 Pa Code Chapter 177).

• Pennsylvania Clean Vehicle Program (Chapter 126, Subchapter D).

• Pennsylvania Heavy-Duty Diesel Emission Control Program (Chapter 126, Subchapter E).

EPA concurs with PA DEP's conclusion that there are no RACM measures that would have advanced the moderate area attainment date of 2010 for the Philadelphia nonattainment area. Therefore, PA DEP's RACM analysis in its Philadelphia 8-hour ozone plan is approvable.

G. Transportation Conformity Budgets

Transportation conformity is required by CAA section 176(c). EPA's conformity rule requires that transportation plans, programs and projects conform to state air quality implementation plans and establishes the criteria and procedure for determining whether or not they do. Conformity to a SIP means that transportation activities will not produce new air quality violations, worsen existing violations, or delay timely attainment of the national ambient air quality standards. States must establish VOC and NOX MVEBs for each of the milestone years up to the attainment year and submit the mobile budgets to EPA for approval. Upon adequacy determination or approval by EPA, states must conduct transportation conformity analysis for their Transportation Improvement Programs and long range transportation plans to ensure highway vehicle emissions will not exceed relevant MVEBs.

Pennsylvania discusses transportation conformity in Section V.E of the August 2007 Philadelphia 8-hour ozone plan, and the same MVEBs are restated in the December 2009 RFP revision SIP. PA DEP, in consultation with the Delaware Regional Planning Commission (DVRPC), the designated metropolitan planning organization for the Philadelphia nonattainment area, established MVEBs for 2008. The 2008 mobile emissions inventory was calculated using EPA's MOBILE6.2 and the Highway Performance Monitoring System model. Pennsylvania further describes its methodology for calculating its mobile emission budgets in Appendix E of the August 2007 Philadelphia 8-hour ozone plan.

The MVEB for the Pennsylvania portion of the Philadelphia-Wilmington-Atlantic City 8-hour ozone nonattainment area for the 2008 RFP is based on projected 2008 mobile source emissions, accounting for all mobile control measures, inclusive of growth. The MVEBs for the 2008 RFP are shown in Table 10, below.

Table 10—Pennsylvania Portion of the Philadelphia-Wilmington-Atlantic City Nonattainment Area 2008 RFP MVEB
| VOC | NOX
Kilograms/day | 55,421 | 98,686
Tons/day | 61.09 | 108.78

For budgets to be approvable, they must meet, at a minimum, EPA's adequacy criteria (40 CFR 93.118(e)(4)). In a December 19, 2008 Federal Register notice, EPA notified the public that EPA found that the 2008 RFP MVEBs in the plan for the Pennsylvania portion of the Philadelphia-Wilmington-Atlantic City 8-hour ozone plan are adequate for transportation conformity purposes. (73 FR 77682).

In addition to the budgets being adequate for transportation conformity purposes, EPA found the procedures Pennsylvania used to develop the MVEBs to be reasonable. The budgets are identical to the projected 2008 on-road mobile source emission inventories. Because the 2008 RFP MVEBs are adequate for transportation conformity purposes and the methods that PA DEP used to develop them are correct, the 2008 RFP budgets are approvable.

V. What are EPA's conclusions?

EPA's review of the 2002 base year emissions inventory; the 2008 ozone projected emission inventory; the 2008 RFP plan; RFP contingency measures; Pennsylvania's RACM analysis; and 2008 transportation conformity budgets contained in Pennsylvania's August 29, 2007 SIP revision (as amended December 10, 2009 and on April 12, 2010) for its portion of the Philadelphia nonattainment area fully addressed the CAA's requirements. Therefore, EPA is proposing approval of specific elements of Pennsylvania's August 2007 8-hour ozone plan and RFP plan for the Philadelphia nonattainment area (as amended in December 2009 and April 2010). EPA is soliciting public comments on the issues discussed in this document. These comments will be considered before taking final action.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule pertaining to the Pennsylvania portion of the Philadelphia-Wilmington-Atlantic City nonattainment area 2002 base year emissions inventory; 2008 ozone projected emission inventory; 2008 RFP plan; RFP contingency measures; RACM analysis; and 2008 transportation conformity budgets does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Nitrogen dioxide, Ozone, Reporting and recordkeeping requirements, Volatile organic compounds.

Authority: 42 U.S.C. 7401 et seq.

Dated: October 28, 2010.
W.C. Early,
Acting Regional Administrator, Region III.

[FR Doc. 2010-28001 Filed 11-4-10; 8:45 am]

BILLING CODE 6560-50-P